DEPARTMENT OF COMMERCE

National Oceanic and Atmospheric Administration

[I.D. 111605H]

Caribbean Fishery Management Council; Public Meeting

AGENCY: National Marine Fisheries Service (NMFS), National Oceanic and Atmospheric Administration (NOAA), Commerce.

ACTION: Notice of Public Meetings.

SUMMARY: The Caribbean Fishery Management Council (Council) and its Administrative Committee will hold meetings.

DATES: The meetings will be held on December 14, 2005. The Council will convene on Wednesday, December 14, 2005, from 9 a.m. to 5 p.m., and the Administrative Committee will meet from 5:15 p.m. to 6 p.m.

ADDRESSES: The meetings will be held at Holiday Inn Windward Passage Hotel, Veterans Drive, Charlotte Amalie, St. Thomas, USVI 00802.

FOR FURTHER INFORMATION CONTACT: Caribbean Fishery Management Council, 268 Munoz Rivera Avenue, Suite 1108, San Juan, Puerto Rico 00918-1920; telephone: (787) 766-5926.

SUPPLEMENTARY INFORMATION: The Council will hold its 120th regular public meeting to discuss the items contained in the following agenda:

December 14, 2005

9 a.m. to 5 p.m.

Call to Order

Adoption of Agenda

Consideration of 119th Council Meeting Verbatim Transcription

Executive Director's Report

Socio-Economic Considerations of Limited Entry - Juan Agar

Discussion of USVI Negotiation Panel

Next Council Meeting

5:15 p.m. to 6 p.m.

Administrative Committee Meeting

-Advisory Panel/Scientific and Statistical Committee/Habitat Advisory Panel (AP/SSC/HAP) Membership

-Budget 2004, 2005

-Other Business

The meetings are open to the public, and will be conducted in English. Fishers and other interested persons are invited to attend and participate with oral or written statements regarding agenda issues. Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico 00918-2577; telephone: (787) 766-5926, at least 5 days prior to the meeting date.

Dated: November 17, 2005.
Emily Menashes,
Acting Director, Office of Sustainable Fisheries, National Marine Fisheries Service.

[FR Doc. E5-6446 Filed 11-22-05; 8:45 am]

BILLING CODE 3510-22-S